DEPARTMENT OF THE INTERIOR

Bureau of Indian Affairs

[201A2100DD/AAKC001030/A0A501010.999900253G]

Indian Gaming; Approval of Tribal-State Class III Gaming Compact in the State of North Carolina

AGENCY: Bureau of Indian Affairs, Interior.

ACTION: Notice.

SUMMARY: This notice publishes the approval of the Second Amended and Restated Tribal-State Compact between the Eastern Band of Cherokee Indians (Tribe) and the State of North Carolina (State).

DATES: The compact takes effect on March 2, 2021.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Compact expands the scope of allowable gaming to include sports wagering and horse race wagering; provides the Tribe will reimburse costs the State incurs to regulate gaming; provides that the Tribe will have the primary responsibility to administer and enforce regulatory requirements; provides the Tribe may operate up to three class III gaming facilities on tribal lands; provides geographic exclusivity for gaming west of Interstate 26; and extends the effective date of the Compact to August 12, 2045. The Compact is approved.

Darryl LaCounte,
Director, Bureau of Indian Affairs, Exercising the Delegated Authority of the Assistant Secretary—Indian Affairs.

[FR Doc. 2021-04254 Filed 3-1-21; 8:45 am]

BILLING CODE 4337-15-P